DEPARTMENT OF LABOR

Employment and Training Administration

[TA-W-71,116]

Russell Brands, LLC, Fabrics Division, a Subsidiary of Fruit of the Loom, Including Employees Working Off-Site In New York, Alexander City, AL; Amended Certification Regarding Eligibility To Apply for Worker Adjustment Assistance

In accordance with Section 223 of the Trade Act of 1974, as amended (“Act”), 19 U.S.C. 2273, the Department of Labor issued a Certification of Eligibility to Apply for Worker Adjustment Assistance on December 10, 2009, applicable to workers of Russell Brands, LLC, Fabrics Division, a subsidiary of Fruit of the Loom, Alexander City, Alabama. The notice was published in the Federal Register on January 25, 2010 (75 FR 3930).

At the request of the State agency, the Department reviewed the certification for workers of the subject firm. The workers are engaged in employment related to the production of yarn dyed woven fabric.

New information shows that worker separations have occurred involving employees under the control of the subject firm working off-site in New York. The employees support the Alexander City, Alabama production facility of the subject firm.

Based on these findings, the Department is amending this certification to include employees of the subject firm's Alexander City, Alabama facility working off-site in New York.

The intent of the Department's certification is to include all workers of the subject firm who were adversely affected by increased imports of yarn dyed woven fabric.

The amended notice applicable to TA-W-71,116 is hereby issued as follows:

All workers of Russell Brands, LLC, Fabric Division, a subsidiary of Fruit of the Loom, including employees working off-site in New York, Alexander City, Alabama, who became totally or partially separated from employment on or after May 18, 2008 through December 10, 2011, and all workers in the group threatened with total or partial separation from employment on date of certification through two years from the date of certification, are eligible to apply for adjustment assistance under Chapter 2 of Title II of the Trade Act of 1974, as amended.

Signed in Washington, DC, this day of June, 2010.
Del Min Amy Chen,
Certifying Officer, Division of Trade Adjustment Assistance.

[FR Doc. 2010-16417 Filed 7-6-10; 8:45 am]

BILLING CODE 4510-FN-P